DEPARTMENT OF AGRICULTURE

Forest Service

“Northwest Howell Project”, Chequamegon-Nicolet National Forest, WI

AGENCY: Forest Service, USDA.

ACTION: Notice of intent to prepare a supplement to the environmental impact statement.

SUMMARY: In response to Federal District Judge Adelman's April 1, 2005 order regarding the “Northwest Howell” environmental impact statement and Record of Decision, I am preparing a Supplement to the April 2003 “Northwest Howell Project” Final Environmental Impact Statement. Consistent with the Court's findings, this supplement will clarify and add more detail to the cumulative effects regarding analysis area boundaries and other activities as they relate to specific Regional Forester Sensitive Species that may be affected by the actions considered in the original Environmental Impact Statement.

DATES: Comments concerning the scope of the analysis must be received by June 27, 2005 in order to be fully considered in preparing this supplemental statement. The draft supplemental environmental impact statement is expected July, 2005 and the final supplemental environmental impact statement is expected September, 2005.

ADDRESSES: Send written comments to Anne F Archie, Forest Supervisor (Responsible Official), Chequamegon-Nicolet National Forest, 1170 4th Avenue S, Park Falls, WI 54552.

FOR FURTHER INFORMATION CONTACT: Brian Quinn, Forest Environmental Coordinator, (see address above).

SUPPLEMENTARY INFORMATION: On April 14, 2003, District Ranger Butch Fitzpatrick signed a record of decision (ROD) and released the final EIS for the Northwest Howell Project. This EIS and ROD were challenged in federal district court by the Habitat Education Center, Inc. The plaintiffs raised several issues including the adeqaucy of the cumulative effects analysis in the FEIS. On April 1, 2005, United States Eastern District of Wisconsin Judge Adelman issued his order granting plaintiff's motion with respect to sufficiency of the cumulative impacts analysis and affirming the Forest Service's motion regarding all other issues raised by plaintiff's. After review of the court's findings, CEQ regulations, Forest Service policy, and a review of the Northwest Howell FEIS/ROD and administrative record, I have decided that the court order and the public can best be served by preparing a Supplement to the FEIS.

This notice begins the public involvement process. I will use the public response plus interdiscplinary team analysis to decide whether to revise, amend or reaffirm the original Northwest Howell Record of Decision.

The proposed action and purpose and need of the Northwest Howell Project remains unchanged from the April 2003 FEIS. The purpose is to move the structure and cover of the existing forest closer to desired conditions described under Forest Plan management direction, and to provide forest products while doing so. A concurrent purpose is to eliminate unneeded roads and manage needed roads in a more efficient and effective way.

Early Notice of Importance of Public Participation in Subsequent Environmental Review: A draft supplement to the environmental impact statement will be prepared for comment. The comment period on the draft statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft supplemental environmental impact statement stage but that are not raised until after completion of the final supplemental environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 20)

Dated: May 19, 2005.
Anne F. Archie,
Forest Supervisor, Chequamegon-Nicolet National Forest.

[FR Doc. 05-10403 Filed 5-24-05; 8:45 am]

BILLING CODE 3410-11-P